FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201329-001.

Agreement Name: NPDL/PFLG Slot Charter Agreement.

Parties: Neptune Pacific Direct Line and Pacific Forum Line (Group) Limited (“PFLG”).

Filing Party: David Monroe; GKG Law.

Synopsis: The amendment updates the name of PDL International Pte Ltd. to Neptune Pacific Direct Line.

Proposed Effective Date: 1/15/2021.

Location: https://www2.fmc.gov/FMC.Agreements.Web/Public/AgreementHistory/26453.

Agreement No.: 201295-001.

Agreement Name: Australia New Zealand South Pacific Islands Agreement.

Parties: Neptune Pacific Direct Line; ANL Singapore Pte. Ltd. d/b/a Sofrana ANL; Pacific Forum Line (Group) Limited; and Neptune Pacific Line, Inc.

Filing Party: David Monroe; GKG Law.

Synopsis: The amendment updates the name and address of ANL Singapore and Neptune Pacific Direct Line, and removes revenue and cost pooling authority under the Agreement.

Proposed Effective Date: 3/5/2021.

Location: https://www2.fmc.gov/FMC.Agreements.Web/Public/AgreementHistory/21386.

Agreement No.: 011790-004.

Agreement Name: Dole Ocean Cargo Express/King Ocean Services Limited Space Charter Agreement.

Parties: Dole Ocean Cargo Express and King Ocean Services Limited, Inc.

Filing Party: Wayne Rohde; Cozen O'Connor.

Synopsis: The amendment divides Article 5.1 into sub-articles and adds a new Article 5.1(b) to reflect an on-going arrangement agreed upon by the parties. It also updates the address of Dole.

Proposed Effective Date: 3/5/2021.

Location: https://www2.fmc.gov/FMC.Agreements.Web/Public/AgreementHistory/639.

Agreement No.: 201265-001.

Agreement Name: Crowley/Seaboard Costa Rica & Panama Space Charter Agreement.

Parties: Crowley Latin America Services, LLC and Seaboard Marine, Ltd.

Filing Party: Wayne Rohde; Cozen O'Connor.

Synopsis: The amendment revises Article 7 to extend the minimum duration of the agreement.

Proposed Effective Date: 3/6/2021.

Location: https://www2.fmc.gov/FMC.Agreements.Web/Public/AgreementHistory/15263.

Dated: January 22, 2021.
Rachel E. Dickon,
Secretary.

[FR Doc. 2021-01775 Filed 1-26-21; 8:45 am]

BILLING CODE 6731-02-P